DEPARTMENT OF THE TREASURY

Agency Information Collection Activities; Submission for OMB Review; Comment Request; Multiple Bureau of the Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 27, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Bureau of the Fiscal Service (FS)

Title: Investigative Forms.

OMB Control Number: 1530-0060.

Type of Review: Revision of a currently approved collection.

Abstract: Information requested is in support of background investigations conducted by the Bureau of the Fiscal Service.

Forms: FS Form 5518, FS Form 5521, FS Form 5520, FS Form 5519

Affected Public: Individuals or Households.

Estimated Total Annual Burden Hours: 125.

Title: Checklists of Filings for Certified Surety and/or Certified Reinsuring Companies and for Admitted Reinsurer Companies.

OMB Control Number: 1530-0061.

Type of Review: Revision of a currently approved collection.

Abstract: This information is collected from insurance companies to provide Treasury a basis to determine acceptability of companies applying for a Certificate of Authority to write or reinsure Federal surety bonds or as an Admitted Reinsurer (not on excess risks to U.S.).

Forms: None.

Affected Public: Businesses or other for-profits.

Estimated Total Annual Burden Hours: 150.

Authority: 44 U.S.C. 3501 et seq.

Dated: November 21, 2017.
Spencer W. Clark,
Treasury PRA Clearance Officer.

[FR Doc. 2017-25540 Filed 11-24-17; 8:45 am]

BILLING CODE 4810-AS-P